COMMODITY FUTURES TRADING COMMISSION

Sunshine Act Meetings

AGENCY HOLDING THE MEETING: Commodity Futures Trading Commission.

Time and Date: 11 a.m., Friday, January 25, 2008.

Place: 1155 21st St., NW., Washington, DC, 9th Floor Commission Conference Room.

Status: Closed.

Matters to be Considered: Surveillance Matters.

Contact Person For More Information: Sauntia S. Warfield, 202-418-5084.

David A. Stawick,
Secretary of the Commission.

[FR Doc. 07-6247 Filed 12-26-07; 11:15 am]

BILLING CODE 6351-01-P